FEDERAL COMMUNICATIONS COMMISSION

47 CFR Part 79

[MB Docket Nos. 12-107, 11-43; FCC 13-45]

Accessible Emergency Information, and Apparatus Requirements for Emergency Information and Video Description: Implementation of the Twenty-First Century Communications and Video Accessibility Act of 2010

AGENCY: Federal Communications Commission.

ACTION: Final rule; announcement of effective date.

SUMMARY: In this document, the Federal Communications Commission (Commission) announces that the Office of Management and Budget (OMB) has approved, for a period of three years, the information collection associated with the Commission's Report and Order implementing provisions of the Twenty-First Century Communications and Video Accessibility Act of 2010 (CVAA) related to accessible emergency information in video programming and apparatus requirements for emergency information and video description. This notice is consistent with the Report and Order, which stated that the Commission would publish a document in the Federal Register announcing OMB approval and the effective date of the requirements.

DATES: The amendments to 47 CFR 79.105(a), 79.105(b)(3), 79.105(b)(4) and revised 79.2(c), published at 78 FR 31770, May 24, 2013, are effective April 16, 2014.

FOR FURTHER INFORMATION CONTACT: For additional information contact Cathy Williams, Cathy.Williams@fcc.gov <mailto:Cathy.Williams@fcc.gov>, (202) 418-2918.

SUPPLEMENTARY INFORMATION: This document announces that, on April 9, 2014, OMB approved the information collection requirements contained in the Commission's Report and Order, FCC 13-45, published at 78 FR 31770, May 24, 2013. The OMB Control Number is 3060-0967. The Commission publishes this notice as an announcement of the effective date of the requirements. If you have any comments on the burden estimates listed below, or how the Commission can improve the collections and reduce any burdens caused thereby, please contact Cathy Williams, Federal Communications Commission, Room 1-C823, 445 12th Street SW., Washington, DC 20554. Please include the OMB Control Number, 3060-0967, in your correspondence. The Commission will also accept your comments via the Internet if you send them to PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on April 9, 2014, for the new information collection requirements contained in the Commission's rules at 47 CFR 79.105(a), 79.105(b)(3), 79.105(b)(4), and revised 79.2(c).

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0967.

The foregoing notice is required by the Paperwork Reduction Act of 1995, Public Law 104-13, October 1, 1995, and 44 U.S.C. 3507.

The total annual reporting burdens and costs for the respondents are as follows:

OMB Control Number: 3060-0967.

OMB Approval Date: April 9, 2014.

OMB Expiration Date: April 30, 2017.

Title: Section 79.2, Accessibility of Programming Providing Emergency Information, and Emergency Information; Section 79.105, Video Description and Emergency Information Accessibility Requirements for All Apparatus; Section 79.106, Video Description and Emergency Information Accessibility Requirements for Recording Devices.

Form No.: Not applicable.

Respondents: Business or other for-profit entities; individuals or households; not-for-profit institutions; and State, local, or tribal Governments.

Number of Respondents and Responses: 640 respondents and 642 responses.

Estimated Time per Response: 0.5 to 5 hours.

Frequency of Response: On occasion reporting requirement and third party disclosure requirement.

Obligation to Respond: Voluntary. The statutory authority for this information collection is contained in the Twenty-First Century Communications and Video Accessibility Act of 2010, Public Law 111-260, 124 Stat. 2751, and sections 4(i), 4(j), 303, 330(b), 713, and 716 of the Communications Act of 1934, as amended, 47 U.S.C. 154(i), 154(j), 303, 330(b), 613, and 617.

Total Annual Burden: 735 hours.

Total Annual Cost: $24,150.

Nature and Extent of Confidentiality: Confidentiality is an issue to the extent that individuals and households provide personally identifiable information, which is covered under the FCC's updated system of records notice (SORN), FCC/CGB-1, “Informal Complaints and Inquiries,” which became effective on January 25, 2010. The Commission believes that it provides sufficient safeguards to protect the privacy of individuals who file complaints under 47 CFR 79.2(c).

Privacy Impact Assessment: The Privacy Impact Assessment (PIA) for Informal Complaints and Inquiries was completed on June 28, 2007. It may be reviewed at http://www.fcc.gov/omd/privacyact/Privacy-Impact-Assessment.html. The Commission is in the process of updating the PIA to incorporate various revisions to it as a result of revisions to the SORN.

Needs and Uses: On April 9, 2013, the Commission released a Report and Order and Further Notice of Proposed Rulemaking, MB Docket Nos. 12-107, 11-43, FCC 13-45 (the Report and Order) adopting rules implementing portions of the Twenty-First Century Communications and Video Accessibility Act of 2010 (the CVAA) related to accessible emergency information, and apparatus requirements for emergency information and video description. These rules are codified at 47 CFR 79.2, 79.105, and 79.106. Pursuant to Section 202 of the CVAA, the Report and Order requires that video programming distributors and video programming providers (including program owners) make emergency information accessible to individuals who are blind or visually impaired by using a secondary audio stream to convey televised emergency information aurally, when such information is conveyed visually during programming other than newscasts. Pursuant to Section 203 of the CVAA, the Report and Order requires certain apparatus that receive, play back, or record video programming to make available video description services and accessible emergency information.

Federal Communications Commission.
Marlene H. Dortch,
Secretary, Office of the Secretary, Office of Managing Director.

[FR Doc. 2014-08570 Filed 4-15-14; 8:45 am]

BILLING CODE 6712-01-P